DEPARTMENT OF THE INTERIOR

Bureau of Land Management

[LLWY925000.L13400000.PQ0000 20X]

Notice of Availability of the Wyoming Pipeline Corridor Initiative Draft Environmental Impact Statement and Resource Management Plan Amendments for 9 BLM-Wyoming Resource Management Plans

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (EIS) and Draft Resource Management Plan (RMP) Amendment for the proposed Wyoming Pipeline Corridor Initiative (WPCI) within the BLM Cody, Worland, Buffalo, Casper, Lander, Pinedale, Kemmerer, Rawlins and Rock Springs field offices.

DATES: To ensure that comments will be considered, the BLM must receive written comments on the Draft RMP Amendment and Draft EIS within 90 days following the date the Environmental Protection Agency publishes its Notice of Availability in the Federal Register. The BLM will announce future meetings or hearings and any other public involvement activities at least 15 days in advance through public notices, media releases, and/or mailings.

ADDRESSES: You may submit comments on the DEIS during comment period on the WPCI ePlanning website at https://go.usa.gov/xpCM. Requests for information regarding the Draft EIS may be emailed to:

• Mail: Heather Schultz, WPCI EIS Project Manager, hschultz@blm.gov.

Copies of the Draft EIS are available on the project website at: https://go.usa.gov/xpCMr.

FOR FURTHER INFORMATION CONTACT: Heather Schultz, Project Manager, telephone 307-775-6084; address 5353 Yellowstone Road, Cheyenne Wyoming; email hschultz@blm.gov. Contact Ms. Schultz to add your name to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The State of Wyoming is proposing a pipeline corridor network reserved for the use and the transport of carbon dioxide (CO2), enhanced oil recovery (EOR) products and other compatible uses to be designated on BLM-managed lands in Wyoming through the land use planning process. The amendments would designate new corridors reserved for the transport of CO2, EOR products, and other compatible uses, that may support future Carbon Capture Storage and Utilization (CCUS) projects in the State of Wyoming. The State of Wyoming proposes that approximately 2,000 miles and 25 segments of pipeline corridors be designated on BLM-managed lands and in those associated RMPs. The proposed WPCI corridors are divided into segments based on proposed width and the regions they will service. The BLM plans to analyze the State's proposal by preparing an EIS. Based on the findings of the EIS process, the BLM may amend the nine RMPs containing lands proposed for pipeline corridors to designate those corridors. If the BLM were to receive a right-of-way application for CO2 or EOR product pipelines or related facilities in the future, project specific NEPA would be completed separately at that time. The purpose of this public comment process is to determine if relevant issues are addressed in the scope of the environmental analysis, including alternatives, and guide the planning process.

The BLM is analyzing four alternatives:

Alternative A: No Action Alternative: Under the no action alternative no new corridors would be designated, no Resource Management Plans would be amended, and management of existing corridors would remain the same.

Alternative B: Proposed Action: Designates new corridors reserved for the transport of CO2, EOR products, and other compatible uses. Portions (200 ft or 300 ft wide) of existing corridors would be reserved for pipelines and facilities associated with CO2, EOR products and other uses as outlined in the State of Wyoming Proposal. Additional corridors would be designated both in Sage Grouse Priority Habitat Management Areas (PHMA) and outside of PHMA as proposed by the state of Wyoming.

Alternative C: Maintain Existing Management in Existing Corridors and creates new corridors reserved for CO2, EOR products and other compatible uses. Routes would be modified or eliminated from the Proposal to avoid resource conflicts, Sage Grouse PHMA, pre-existing rights, existing uses and infrastructure. Use of existing corridors would be maximized. Management of existing corridors would remain the same and would not be reserved for the transport of CO2, EOR products, and other compatible uses. Additional new corridors (200 ft or 300 ft wide) would be created for the transport of CO2, EOR products, and other compatible uses. Additional Corridors would be not be created in Sage Grouse PHMA.

Alternative D: Alternative D is the agency preferred alternative and dedicates portions of existing corridors and creates new corridors reserved for the transport of CO2, EOR products, and other compatible uses. Routes would be modified or eliminated from the Proposal to avoid resource conflicts, Sage Grouse PHMA, pre-existing rights, existing uses and infrastructure. Portions (200 ft or 300 ft wide) of existing corridors would be reserved for the transport of CO2, EOR products, and other compatible uses. Additional Corridors would be not be created in Sage Grouse PHMA.

Please note that public comments and information submitted including names, street addresses, and email addresses of persons who submit comments will be available for public review and disclosure at the above address during regular business hours (8 a.m. to 4 p.m.), Monday through Friday, except holidays.

Before including your address, phone number, email address or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

Duane Spencer,
BLM Wyoming State Director.

[FR Doc. 2020-08117 Filed 4-16-20; 8:45 am]

BILLING CODE 4310-22-P